NATIONAL SCIENCE FOUNDATION

Advisory Committee for Geosciences; Notice of Meeting

In accordance with the Federal Advisory Committee Act (Public Law 92-463, as amended), the National Science Foundation announces the following meeting:

Name: Advisory Committee for Geosciences; Committee of Visitors (1755).

Date and Time: July 10-12, 2002; 8 a.m.-5 p.m. each day.

Place: Room 770, NSF, 4201 Wilson Boulevard, Arlington, VA 22230.

Type of Meeting: Part-Open (See Agenda below).

Contact Person: Dr. Richard A. Behnke, Section Head, Upper Atmosphere Research Section, Division of Atmospheric Sciences, National Science Foundation, 4201 Wilson Boulevard, Arlington, VA 22230, (703) 292-8518.

Purpose of Meeting: To carry out Committee of Visitors (COV) review including program evaluation, GPRA assessments, and access to privilege materials.

Agenda: To provide oversight review of the Upper Atmosphere Research Section.

Closed: July 10 from 8 a.m.-5 p.m. July 11 from 8 a.m.-5 p.m. And July 12 from 8 a.m. -5 p.m. To review the merit review process covering funding decision of the Upper Atmosphere Research Section made during the immediate preceding three fiscal years.

Open: July 11 from 2 p.m.-5 p.m. To assess the results of NSF program investments in the Division of Atmosphere Sciences, Upper Atmosphere Research Section. This shall involve a discussion and review of results focused on NSF and grantee outputs and related outcomes achieved or realized during the preceding three fiscal years. These results may be based on NSF grants or to other investments made in earlier years.

Reason for Closing: During the closed session, the Committee will be reviewing proposal actions that will include privilege intellectual property and personal information that could harm individuals if they are disclosed. If discussions were open to the public, these matters that are exempt under 5 U.S.C. 552b(c), (4) and (6) of the Government in the Sunshine Act would be improperly disclosed.

Dated: June 11, 2002.
Susanne E. Bolton,
Committee Management Officer.

[FR Doc. 02-15188 Filed 6-14-02; 8:45 am]

BILLING CODE 7555-01-M